DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Survey of Universal Newborn Hearing Screening and Intervention Program—(NEW)

The purpose of the universal newborn hearing screening and intervention project is to describe the efficacy, or lack thereof, of a national program to assure that all newborn infants are screened for hearing loss before discharge from the newborn nursery, and that those infants who do not pass the initial screening procedures have timely and appropriate follow-up, defined as audiologic diagnosis by three months of age and enrollment in a program of early intervention before 6 months of age. Program goals of linking every child with a known or suspected hearing loss with a medical home, that is a provider of continuous and comprehensive primary pediatric care, and linkage of families of infants with a hearing loss to a source of family to family support will also be assessed. In addition to a survey tool to be administered in all States, additional data will be collected during site visits to 10-12 selected States. Results of the study will include recommendations to the program office for further assisting the States in fully accomplishing program goals.

Form | Number of respondents | Responses per respondent | Total responses | Hours per response | Total burden hours
Telephone interviews | 54 States and Jurisdictions | 1 | 54 | .66 | 36
Site Visits | 12 States/Jurisdictions | Up to 6 | 72 | 1 | 72
Total |  |  | 126 |  | 108

Written comments and recommendations concerning the proposed information collection should be sent within 30 days of this notice to: John Kraemer, Human Resources and Housing Branch, Office of Management and Budget, New Executive Office Building, Room 10235, Washington, DC 20503.

Dated: May 26, 2005.
Tina M. Cheatham,
Director, Division of Policy Review and Coordination.

[FR Doc. 05-10914 Filed 6-1-05; 8:45 am]

BILLING CODE 4165-15-P